Title 3—

The President

Proclamation 8358 of April 8, 2009

National D.A.R.E. Day, 2009

By the President of the United States of America

A Proclamation

Drugs, gangs, and violence threaten our children and communities every day. Today we commemorate Drug Abuse Resistance Education (D.A.R.E.), a program that has worked to educate children and protect them from these problems. National D.A.R.E. Day provides the opportunity to reflect upon the dangers of drugs, gangs, and violence and to emphasize efforts to combat these threats.

From inner cities to suburbs and rural communities, gangs and drug dealers prey upon youth across the United States. Unaware of the dangers of drug abuse and violence, many youth surrender the promise of a bright future. Every child lost in this battle represents a tragedy for our Nation, and we must do more to stop it.

Education efforts to help children avoid drugs and violence must begin in the home. Parents must be positive role models and take the lead in advising their children on the effects of drugs on their health and well-being.

The D.A.R.E. program has worked to educate students about drugs, gangs, and violence for more than 25 years. Placing law-enforcement personnel in the classroom, D.A.R.E. provides students with important lessons from experts and seeks to prepare them for the difficult encounters and choices they may face.

Today we honor D.A.R.E. for its important work. The efforts of D.A.R.E.’s instructors and supporters benefit our Nation’s children and are deserving of praise and appreciation. D.A.R.E.’s renewed efforts to implement science-based programs and to strengthen partnerships among law enforcement, families, and their communities are particularly worthy of commendation. Through effective teaching methods and broad participation, D.A.R.E. can help ensure that every child in America enjoys the opportunities he or she deserves.

NOW, THEREFORE, I, BARACK OBAMA, President of the United States of America, by virtue of the authority vested in me by the Constitution and laws of the United States, do hereby proclaim April 8, 2009, as National D.A.R.E. Day. I call upon our youth, parents, educators, law enforcement personnel, and all the people of the United States to observe this day with appropriate programs and activities.

IN WITNESS WHEREOF, I have hereunto set my hand this eighth day of April, in the year of our Lord two thousand nine, and of the Independence of the United States of America the two hundred and thirty-third.

[FR Doc. E9-8446

Filed 4-9-09; 11:15 am]

Billing code 3195-W9-P